DEPARTMENT OF LABOR

Employment and Training Administration

[TA-W-50,036 and TA-W-50,036A]

Nortel Networks, Department #2446, Research Triangle Park, NC and Including an Employee of Nortel Networks, Department #2446, Located in New York; Amended Certification Regarding Eligibility To Apply for Worker Adjustment Assistance

In accordance with Section 223 of the Trade Act of 1974 (19 U.S.C. 2273) the Department of Labor issued a Certification of Eligibility to Apply for Worker Adjustment Assistance on January 17, 2003, applicable to workers of Nortel Networks, Department #2446, Research Triangle Park, North Carolina. The notice was published in the Federal Register on February 6, 2003 (68 FR 6212).

At the request of the petitioner, the Department reviewed the certification for workers of the subject firm. New information shows that worker separations occurred involving an employee of Department #2446, Research Triangle Park, North Carolina facility of Nortel Networks located in New York. This employee provided verification testing and turnup for the production of fiber optic backbone telecommunications network at Department #2446, Research Triangle Park, North Carolina location of the subject firm.

Based on these findings, the Department is amending this certification to include an employee of the Research Triangle Park, North Carolina facility of Nortel Networks, Department #2446 located in New York.

The intent of the Department's certification is to include all workers of Nortel Networks, Department #2446 who were adversely affected by increased imports.

The amended notice applicable to TA-W-50,036 is hereby issued as follows:

All workers of Nortel Networks, Department #2446, Research Triangle Park, North Carolina (TA-W-50,036), including an employee of Nortel Networks, Department #2446, Research Triangle Park, North Carolina, located in New York (TA-W-50,036A), who became totally or partially separated from employment on or after November 5, 2001, through January 17, 2005, are eligible to apply for adjustment assistance under Section 223 of the Trade Act of 1974.

Signed at Washington, DC this 21st day of March 2003.
Linda G. Poole,
Certifying Officer, Division of Trade Adjustment Assistance.

[FR Doc. 03-8851 Filed 4-9-03; 8:45 am]

BILLING CODE 4510-30-P